DEPARTMENT OF ENERGY

Federal Energy Regulatory Commission

[Docket No. CP08-432-000]

Eastern Shore Natural Gas Company; Notice of Request Under Blanket Authorization

July 11, 2008.

Take notice that on June 30, 2008, Eastern Shore Natural Gas Company (Eastern Shore), 417 Bank Lane, Dover, Delaware 19904, filed in Docket No. CP08-432-000, a prior notice request pursuant to sections 157.205(b), and 157.211 of the Federal Energy Regulatory Commission's regulations under the Natural Gas Act (NGA) and its blanket authority granted in Docket No. CP96-128-000 for authorization to construct, own, and operate a new delivery point to be located in Sussex County, Delaware, in order to provide natural gas service to INVISTA S.á.r.l. (INVISTA), all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Eastern Shore proposes to construct, own, and operate a new delivery point to deliver natural gas to INVISTA to be located in Sussex County, Delaware. Eastern Shore proposes to design and construct, or cause the design and construction of, a six-inch tap and valve and approximately 8,500 feet of six-inch steel pipe from an existing point on its system to a new measuring and regulating (M&R) station located at the INVISTA manufacturing facility. Eastern Shore states that the proposed delivery point would supply one new boiler which INVISTA is currently installing at its manufacturing facility near the city of Seaford (Seaford Site). Eastern Shore asserts that there will be no impact on Eastern Shore's peak day deliveries due to the off-peak seasonal nature of the firm transportation (FT) service subscribed to by INVISTA. Eastern Shore states that INVISTA responded to Eastern Shore's recent notice of Available Firm Capacity pursuant to Section 14 of its FERC Gas Tariff by submitting a bid for a Maximum Daily Transportation Quantity (MDTQ) of 2,352 dekatherms per day (Dth/d) for the non-peak months of March through October for a fifteen-year term commencing May 1, 2009. Eastern Shore asserts that INVISTA will reimburse Eastern Shore for the cost of the proposed facilities through the FT rate specified in the FT Service Agreement. Eastern Shore states that the total estimated cost of the proposed project is approximately $1.9 million.

Any questions regarding the application should be directed to Glen DiEleuterio, P.E., Project Manager, Eastern Shore Natural Gas Company, 417 Bank Lane, Dover, Delaware 19904, or at (302) 734-6710, extension 6723.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (www.ferc.gov) under the “e-Filing” link.

Kimberly D. Bose,
Secretary.

[FR Doc. E8-16696 Filed 7-21-08; 8:45 am]

BILLING CODE 6717-01-P